DEPARTMENT OF COMMERCE

National Oceanic and Atmospheric Administration

Proposed Information Collection; Comment Request; Reporting of Sea Turtle Entanglement in Fishing Gear or Marine Debris

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 26, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Kate Sampson, Greater Atlantic Regional Fisheries Office, 55 Great Republic Drive, Gloucester, MA 01930, (978) 282-8470, kate.sampson@noaa.gov.

SUPPLEMENTARY INFORMATION:

I. Abstract

NOAA's National Marine Fisheries Service (NMFS) manages the Sea Turtle Disentanglement Network (STDN) to respond to sea turtle entanglement in active or discarded fishing gear (in particular those involving the vertical line of fixed gear fisheries), marine debris, or other line in the marine environment. Entanglement has the potential to cause serious injury or mortality, which would negatively impact the recovery of endangered and threatened sea turtle populations. The STDN is made up of dedicated, trained, and specially-equipped non-profit organizations, state and federal agencies, and universities. The STDN's goals are to increase reporting, to reduce serious injury and mortality to sea turtles, and to collect information that can be used for mitigation of these threats. Initial reports are provided by radio or phone from a variety of sources, including private and commercial boaters, fishermen, government and state agencies, and even non-profit organizations. Once initial reports are received and the STDN responds to document and, hopefully, release the entangled turtle, information from the initial report and the response are provided via hard copy or electronic entanglement report forms that are later submitted to NOAA Fisheries via electronic mail (most often). As there is limited observer coverage of fixed gear fisheries, the STDN data are invaluable to NMFS in understanding the threat of entanglement and working towards mitigation.

II. Method of Collection

Reports will be submitted on paper (faxed or mailed), by telephone, or electronically.

III. Data

OMB Control Number: 0648-0496.

Form Number(s): None.

Type of Review: Regular submission (extension of a current information collection).

Affected Public: Individuals or households; Business or other for-profit organizations; Not-for-profit institutions; State, Local, or Tribal government; Federal government.

Estimated Number of Respondents: 116.

Estimated Time per Response: 2 to 2.5 hours per case (78 cases).

Estimated Total Annual Burden Hours: 168.5 hours.

Estimated Total Annual Cost to Public: $100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 24, 2020.
Sheleen Dumas,
Department PRA Clearance Officer, Office of the Chief Information Officer, Commerce Department.

[FR Doc. 2020-06401 Filed 3-26-20; 8:45 am]

BILLING CODE 3510-22-P